LIBRARY OF CONGRESS

Copyright Office

37 CFR Part 201 and 212

[Docket No. RM 2007-6]

Fees

AGENCY: Copyright Office, Library of Congress.

ACTION: Final rule.

SUMMARY: The Copyright Office of the Library of Congress is publishing a final rule establishing a lower basic registration fee of $35 for copyright claims submitted electronically. This fee applies to all registrations where the application is submitted electronically, including those registrations where the deposit materials cannot be sent electronically together with the application. At the same time, the Office is retaining its current fee of $45 for processing paper applications for basic copyright registration of a copyright claim. The dual fee structure reflects the reduced cost of processing electronic claims and serves as an incentive to the public to utilize the new online, electronic registration system. On or after July 1, 2007, the Copyright Office will begin accepting a limited number of electronic submissions of copyright claims through the Internet and the new fee will apply to these applications. The adoption of the new rule assumes that no legislative action will take place before July 1, 2007.

EFFECTIVE DATE: July 1, 2007.

FOR FURTHER INFORMATION CONTACT: Tanya Sandros, Acting General Counsel, P.O. Box 70400, Washington, D.C. 20024-0400, Telephone (202) 707-8380. Telefax: (202) 707-8366.

SUPPLEMENTARY INFORMATION:

Background

This final rule adjusts Copyright Office fees in accordance with the applicable provisions of title 17, United States Code, and the Technical Amendments Act, Pub. L. No. 105-80, 111 Stat. 1529 (1997), codified as 17 U.S.C. 708(b).

In 1997, Congress delegated to the Register of Copyrights authority to adjust fees in accordance with a new procedure. This procedure requires the Register to conduct a study of the costs incurred for fee services, such as the registration of claims, the recordation of documents, and search services. If, after the review and application of all statutory criteria, the Register determines that fees should be adjusted, the Register prepares a proposed fee schedule and submits the schedule and the accompanying economic analysis to Congress. 17 U.S.C. 708(b)(5). The fee proposed in that schedule may be instituted in 120 days unless Congress enacts a law within that 120 day period stating that it does not approve the schedule. Id. Technical Amendments Act, Pub. L. No. 105-80, 111 Stat. 1529 (1997).

The Copyright Office has instituted fee adjustments under the Technical Amendments Act on three separate occasions. The first schedule was adopted in 1999. See 63 FR 43426 (August 13, 1998) and 64 FR 29518 (June 1, 1999). Three years later a second adjustment was made raising many copyright fees, but leaving the basic copyright registration fee at $30. 67 FR 38003 (May 31, 2002). The last fee adjustment was adopted in 2006, in which most statutory fees were again raised due to increase in costs. In this instance, the basic registration fee was increased from $30 to $45. 71 FR 15368 (March 28, 2006) and 71 FR 31089 (June 1, 2006).

Cost Study

In raising the basic registration fee last year to $45, the commentary in the Federal Register notice anticipated establishing a differential fee schedule with lower filing fees for online registration to reflect the efficiencies of the new reengineered processes. 71 FR at 31090. It is intended that the dual fee will not only reflect the reduced costs of processing electronic claims, but will also provide an incentive to potential electronic filers.

On February 21, 2007, a cost study was submitted to Congress proposing to reduce the basic registration fee for copyright claims submitted electronically to $35 and to institute new fees for listing titles of individual works in an application for a collection or collective work. The per title fee for an electronic submission would be $1 and the per title fee for a paper application would be $3. However, the proposed fees for listing titles of individual works in an application for a collection or collective work are not being adopted at this time.

The cost study used to determine the new fees was developed by the Copyright Office based on a model created as part of its business process reengineering initiative. The cost analysis utilized an activity-based costing methodology approved by the Office of Management and Budget in its publication, Managerial Cost Accounting Standards for the Federal Government, Statement of Federal Financial Accounting Standards, No. 4 (July 31, 1995). Cost studies of this type are retrospective, using actual data from a prior fiscal year. However, costing for the proposed fee had to be done prospectively, as an adjunct to the earlier cost study, because electronic registration has not been offered in the past. In developing the new fee, the Copyright Office utilized data from a small-scale testbed for electronic registration and data from prior cost studies relating to the costs of certain paper handling processes which will be eliminated by the new electronic processing systems. On the basis of the information available to the Copyright Office, it concluded that a fee of $35 for the electronic processing of a claim to copyright to be reasonable. The Office is likely to revisit the fee issue once the electronic system has been fully operational for a sufficient period of time so as to yield reliable information on the actual costs involved in providing the service.

The Office is also adopting technical amendments to bring all fees within the fee schedules set forth in § § 201.3 (c) and (e) of title 37 of the CFR. Specifically, the Office is amending § § 201.11(h)(3)(iv)(A), 201. 201.17(k)(3)(iv)(A), 201.27 (g)(2), 201.28(i)(3)(v)(A), 212.3(e)(1), (f)(4), and 212.5(c)(4).

Effective Date

Congress has 120 days from February 21, 2007, to review the statutory fees submitted to it, codified in § 201.3(c). If no legislation is enacted barring adoption of these fees, the $35 proposed fee for registration of copyright claims submitted electronically will be adopted, effective July 1, 2007.

List of Subjects

37 CFR Part 201

Copyright, General provisions.

37 CFR Part 212

Design, Vessel hulls, Registration.

Final Rule

In consideration of the foregoing, 37 CFR parts 201 and 212 are amended as follows:

PART 201—GENERAL PROVISIONS

1. The authority citation for part 201 continues to read as follows:

Authority: 17 U.S.C. 702.

2. Section 201.3 (c) and (e) are revised to read as follows:

§ 201.3 Fees for registration, recordation, and related services, special services, and services performed by the Licensing Division.

* * * * *

(c) Registration, recordation and related service fees. The Copyright Office has established the following fees for these services:

Registration, Recordation and Rated Services | Fees
(1) Registration of a basic claim in an original work of authorship: Forms TX, SE, PA, VA (including Short Forms), and Form SR | $45
(2) Electronic Registration of a basic claim in an original work of authorship: Form CO | 35
(3) Registration of a claim in a group of contributions to periodicals (GR/CP) | 45
(4) Registration of a renewal claim (Form RE): Claim without Addendum | 75
Addendum | 220
(5) Registration of a claim in a mask work (Form MW) | 95
(6) Registration of a claim in a group of serials (Form SE/Group) [per issue, with minimum 2 issues] | 25
(7) Registration of a claim in a group of daily newspapers and qualified newsletters (Form G/DN) | 70
(8) Registration of a claim in a restored copyright (Form GATT) | 45
(9) Registration of a group of published photographs | 45
(10) Preregistration of certain unpublished works | 100
(11) Registration of a correction or amplification to a claim (Form CA) | 115
(12) Providing an additional certificate of registration | 40
(13) Certification of other Copyright Office records (per hour) | 150
(14) Search-report prepared from official records (per hour) | 150
Estimate of search fee | 100
(15) Location of Copyright Office records (per hour) | 150
Location of in-process materials (per hour) | 150
(16) Recordation of document, including a Notice of Intention to Enforce (NIE) (single title) | 95
Additional titles (per group of 10 titles) | 25
(17) Recordation of Notice of Intention to Make and Distribute Phonorecords | 12
(18) Recordation of an Interim Designation of Agent to Receive Notification of Claimed Infringement under § 512(c)(2) | 80
(19) Issuance of a receipt for a § 407 deposit | 20
(20) Registration of a claim in a vessel hull (including 3 pages of drawing or photographs) | 200
Additional pages | 20
(21) Recordation of distinctive identification of vessel hull designer | 80

* * * * *

(e) Licensing Division service fees. The Copyright Office has established the following fees for certain services performed by the Licensing Division:

Licensing Division Services | Fees
(1) Recordation of a Notice of Intention to Make and Distribute Phonorecords (17 U.S.C. 115) | $12
(2) Filing Fee for Recordation of License Agreements under 17 U.S.C. 118 | 125
(3) Recordation of Certain Contracts by Cable Television Systems Located Outside the Forty-Eight Contiguous States | 50
(4) Initial Notice of Digital Transmission of Sound Recording(17 U.S.C. 114) | 20
Amendment of 17 U.S.C. 114 Notice | 20
(5) Statement of Account Amendment (Cable Television Systems, Satellite Carriers, and Digital Audio Recording Devices or Media, 17
U.S.C. 111, 119, and 1003) | 95
(6) Amendment to an Initial Notice of Distribution of Digital Audio Recording Devices or Media | 20
(7) Photocopy made by staff (b&w) (per page, minimum $6) | 0.50
(8) Search, per hour | 150
(9) Certification of Search Report | 150

3. Amend § 201.11 by revising the first sentence in paragraph (h)(3)(iv)(A) to read as follows:

§ 201.11 Satellite carrier statements of account covering statutory licenses for secondary transmissions.

* * * * *

(h) * * *

(3)* * *

(iv)(A) All requests filed under this paragraph (h) must be accompanied by a filing fee in the amount prescribed in § 201.3(e) of this part for each Statement of Account involved. * * *

* * * * *

4. Amend § 201.17 by revising the first sentence in paragraph (k)(3)(iv)(A) to read as follows:

§ 201.17 Statements of account covering compulsory licenses for secondary transmissions by cable systems.

* * * * *

(k) * * *

(3) * * *

(iv)(A) All requests filed under this paragraph (k) (except those filed under paragraph (k)(1)(iii) of this section) must be accompanied by a filing fee in the amount prescribed in § 201.3(e) of this part for each Statement of Account involved. * * *

* * * * *

5. Amend § 201.27 by revising paragraph (g)(2) to read as follows:

§ 201.27 Initial notice of distribution of digital audio recording devices or media.

* * * * *

(g) * * *

(2) No fee shall be required for the recording of Initial Notices. The fee for filing an Amendment to an Initial Notice of Distribution of Digital Audio Recording Devices or Media is prescribed in § 201.3(e).

6. Amend § 201.28 by revising the first sentence in paragraph (j)(3)(v)(A) to read as follows:

§ 201.28 Statements of account for digital audio recording devices or media.

* * * * *

(j) * * *

(3) * * *

(v)(A) The request must be accompanied by a filing fee in the amount prescribed in § 201.3(e) for each Statement of Account involved. * * *

* * * * *

PART 212—PROTECTION OF VESSEL HULL DESIGNS

7. The authority citation for Part 212 continues to read as follows:

Authority: 17 U.S.C. chapter 13.

8. Amend § 212.3 by revising paragraphs (e)(1) and (f)(4) to read as follows:

§ 212.3 Registration of claims for protection of eligible designs.

(e) Deposit material-(1) In General. Identification of the design to be registered may be made in the form of drawings or photographs. No more than two drawings or photographs of the design may appear on a single sheet. Applicants may submit up to three 81/2“×11” sheets containing drawings or photographs as part of the basic application fee. An additional fee shall be assessed for each page beyond the first three pages. No combinations of drawings and photographs may be submitted on a single sheet. The drawings or photographs that accompany the application must reveal those aspects of the design for which protection is claimed. The registration extends only to those aspects of the design which are adequately shown in the drawings or photographs.

* * * * *

(f) * * *

(4) Fees. The basic application fee prescribed in § 201.3(c) of this chapter applies to each design submitted, regardless of whether a single application or multiple applications are used.

9. Amend § 212.5 by revising paragraph (c)(4) to read as follows:

§ 212.5 Recordation of distinctive identification of vessel hull designer.

* * * * *

(c) * * *

(4) The recordation fee in the amount prescribed in § 201.3 (c) of this chapter.

* * * * *

Dated: June 5, 2007
Marybeth Peters,
Register of Copyrights.
Approved by:
James H. Billington,
The Librarian of Congress.

[FR Doc. E7-11815 Filed 6-18-07; 8:45 am]

BILLING CODE 1410-30-S